DEPARTMENT OF HEALTH AND HUMAN SERVICES

National Institutes of Health

National Institute of Child Health and Human Development; Amended Notice of Meeting

Notice is hereby given of a change in the meeting of the Mental Retardation Research Subcommittee, March 12, 2001, 8 a.m. to March 14, 2001, 5 p.m., Embassy Suites, Chevy Chase Pavilion, 4300 Military Rd., Wisconsin at Western Ave., Washington, DC 20015 which was published in the Federal Register on January 31, 2001, 66 FR 8418.

The meeting will be held on March 12-13, 2001. The meeting is closed to the public.

Dated: February 9, 2001.
LaVerne Y. Stringfield,
Director, Office of Federal Advisory Committee Policy.

[FR Doc. 01-4091 Filed 2-16-01; 8:45 am]

BILLING CODE 4140-01-M